DEPARTMENT OF COMMERCE

National Oceanic and Atmospheric Administration

50 CFR Part 648

[Docket No. 990422103-9209-02; 031099B]

RIN 0648-AL75

Fisheries of the Northeastern United States; Fishery Management Plan for the Summer Flounder, Scup, and Black Sea Bass Fisheries; Extension of an Interim Rule

AGENCY: National Marine Fisheries Service (NMFS), National Oceanic and Atmospheric Administration (NOAA), Commerce.

ACTION: Extension of expiration date.

SUMMARY: NMFS issues this notification to inform the public that the interim rule published on September 9, 1999, to implement conservation equivalencies for the summer flounder fishery is extended through September 5, 2000. Without this extension, the interim rule would expire on March 9, 2000. The extension allows states to continue to implement measures for the summer flounder recreational fishery that are alternatives to the annual Federal measures, yet achieve a reduction in fishing mortality equivalent to that achieved by the annual Federal measures.

DATES: The rule, effective September 2, 1999, through March 9, 2000, extends its expiration date from March 9, 2000, to September 5, 2000.

ADDRESSES: Copies of the Environmental Assessment (EA) and Regulatory Impact Review (RIR) prepared for the initial action are available from: Patricia A. Kurkul, Regional Administrator, National Marine Fisheries Service, One Blackburn Drive, Gloucester, MA 01930-2298.

FOR FURTHER INFORMATION CONTACT: Myles Raizin, Fishery Policy Analyst, (978) 281-9104.

SUPPLEMENTARY INFORMATION:

Background

An interim rule implementing conservation equivalencies for the summer flounder recreational fishery was published on September 9, 1999 (64 FR 48965), and will expire on March 9, 2000. The interim rule allows states to select a combination of minimum fish sizes, possession limits, and closed seasons to meet a target reduction in the recreational harvest limit for summer flounder. A combination of these measures must accomplish the same reduction as those implemented for the recreational fishery in the Exclusive Economic Zone (EEZ). Under the interim rule, states that wish to implement equivalent measures must submit proposed management options to the Atlantic States Marine Fisheries Commission (Commission) for approval. Once the Commission approves a state equivalency proposal, the Commission is required to recommend to NMFS that notification be published in the Federal Register to waive the default measures implemented for the EEZ and notify the public of equivalent measures.

The interim rule allowed for the implementation and publication of conservation equivalencies for the 1999 fishery. To provide the same mechanism for the 2000 fishery, the effectiveness of this rule must be extended. The Mid-Atlantic Fishery Management Council (Council) has included conservation equivalency as part of its recommended management measures for 2000. In addition, the Council is preparing an amendment to the Fishery Management Plan for Summer Flounder, Scup, and Black Sea Bass to implement conservation equivalency on a permanent basis; however, the amendment is not yet complete. Because the interim rule will expire on March 9, 2000, NMFS finds it necessary to extend the interim rule to allow the establishment of conservation equivalencies for the 2000 fishery. This extension is effective through September 5, 2000.

List of Subjects in 50 CFR Part 648

Fisheries, Fishing, Reporting and recordkeeping requirements.

Dated: March 1, 2000.
Andrew A. Rosenberg,
Deputy Assistant Administrator for Fisheries, National Marine Fisheries Service.

For the reasons set out in the preamble, 50 CFR part 648 is amended as follows:

PART 648—FISHERIES OF THE NORTHEASTERN UNITED STATES

1. The authority citation for part 648 continues to read as follows:

Authority: 16 U.S.C. 1801 et seq..

2. In § 648.107(a), the first sentence is revised to read as follows:

§ 648.107 Conservation equivalent measures for the recreational summer flounder fishery.

(a) Through September 5, 2000, states may implement on an annual basis conservation equivalent measures that reduce the recreational catch to the same extent as the annual Federal summer flounder measures specified under § 648.100(c) to achieve the recreational harvest limit in any year.* * *

* * * * *

[FR Doc. 00-5517 Filed 3-6-00; 8:45 am]

BILLING CODE 3510-22-F